POSTAL REGULATORY COMMISSION

Notice Initiating Docket(s) for Recent Postal Service Negotiated Service Agreement Filings

| Docket No.
Competitive Product Prices: | MC2024-557
Priority Mail Express, Priority Mail & USPS
Ground Advantage Contracts
Priority Mail Express, Priority Mail & USPS
Ground Advantage Contract 252
Competitive Product Prices: | CP2024-565
Priority Mail Express, Priority Mail & USPS
Ground Advantage Contract 252 (MC2024-557)
Negotiated Service Agreements
Competitive Product Prices: | MC2024-558
Priority Mail Express, Priority Mail & USPS
Ground Advantage Contracts
Priority Mail Express, Priority Mail & USPS
Ground Advantage Contract 253
Competitive Product Prices: | CP2024-566
Priority Mail Express, Priority Mail & USPS
Ground Advantage Contract 253 (MC2024-558)
Negotiated Service Agreements
Competitive Product Prices: | MC2024-559
Priority Mail & USPS Ground Advantage Contracts
Priority Mail & USPS Ground Advantage Contract 312
Competitive Product Prices: | CP2024-567
Priority Mail & USPS Ground Advantage Contract 312 (MC2024-559)
Negotiated Service Agreements
Competitive Product Prices: | MC2024-560
Priority Mail & USPS Ground Advantage Contracts
Priority Mail & USPS Ground Advantage Contract 317
Competitive Product Prices: | CP2024-568
Priority Mail & USPS Ground Advantage Contract 317 (MC2024-560)
Negotiated Service Agreements
Competitive Product Prices: | MC2024-567
Priority Mail Express, Priority Mail & USPS
Ground Advantage Contracts
Priority Mail Express, Priority Mail & USPS
Ground Advantage Contract 260
Competitive Product Prices: | CP2024-575
Priority Mail Express, Priority Mail & USPS
Ground Advantage Contract 260 (MC2024-567)
Negotiated Service Agreements
Competitive Product Prices: | MC2024-568
Priority Mail Express, Priority Mail & USPS
Ground Advantage Contracts
Priority Mail Express, Priority Mail & USPS
Ground Advantage Contract 259
Competitive Product Prices: | CP2024-576
Priority Mail Express, Priority Mail & USPS
Ground Advantage Contract 259 (MC2024-568)
Negotiated Service Agreements
Competitive Product Prices: | MC2024-569
Priority Mail Express, Priority Mail & USPS
Ground Advantage Contracts
Priority Mail Express, Priority Mail & USPS
Ground Advantage Contract 261
Competitive Product Prices: | CP2024-577
Priority Mail Express, Priority Mail & USPS
Ground Advantage Contract 261 (MC2024-569)
Negotiated Service Agreements
Competitive Product Prices: | MC2024-570
Priority Mail & USPS Ground Advantage Contracts
Priority Mail & USPS Ground Advantage Contract 319
Competitive Product Prices: | CP2024-578
Priority Mail & USPS Ground Advantage Contract 319 (MC2024-570)
Negotiated Service Agreements
Competitive Product Prices: | MC2024-571
Priority Mail Express, Priority Mail & USPS
Ground Advantage Contracts
Priority Mail Express, Priority Mail & USPS
Ground Advantage Contract 262
Competitive Product Prices: | CP2024-579
Priority Mail Express, Priority Mail & USPS
Ground Advantage Contract 262 (MC2024-571)
Negotiated Service Agreements
Competitive Product Prices: | MC2024-572
Priority Mail Express, Priority Mail & USPS
Ground Advantage Contracts
Priority Mail Express, Priority Mail & USPS
Ground Advantage Contract 263
Competitive Product Prices: | CP2024-580
Priority Mail Express, Priority Mail & USPS
Ground Advantage Contract 263 (MC2024-572)
Negotiated Service Agreements
Competitive Product Prices: | MC2024-573
Priority Mail Express, Priority Mail & USPS
Ground Advantage Contracts
Priority Mail Express, Priority Mail & USPS
Ground Advantage Contract 264
Competitive Product Prices: | CP2024-581
Priority Mail Express, Priority Mail & USPS
Ground Advantage Contract 264 (MC2024-573)
Negotiated Service Agreements

(Issued August 28, 2024)

I. Introduction

The Commission gives notice that the Postal Service filed request(s) for the Commission to consider matters related to negotiated service agreement(s). The request(s) may propose the addition or removal of a negotiated service agreement from the Market Dominant or the Competitive product list, or the modification of an existing product currently appearing on the Market Dominant or the Competitive product list.

Section II identifies the docket number(s) associated with each Postal Service request, the title of each Postal Service request, the request's acceptance date, and the authority cited by the Postal Service for each request. For each request, the Commission appoints an officer of the Commission to represent the interests of the general public in the proceeding, pursuant to 39 U.S.C. 505 (Public Representative). Section II also establishes comment deadline(s) pertaining to each request.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

The Commission invites comments on whether the Postal Service's request(s) in the captioned docket(s) are consistent with the policies of title 39. For request(s) that the Postal Service states concern Market Dominant product(s), applicable statutory and regulatory requirements include 39 U.S.C. 3622, 39 U.S.C. 3642, 39 CFR part 3030, and 39 CFR part 3040, subpart B. For request(s) that the Postal Service states concern Competitive product(s), applicable statutory and regulatory requirements include 39 U.S.C. 3632, 39 U.S.C. 3633, 39 U.S.C. 3642, 39 CFR part 3035, and 39 CFR part 3040, subpart B. Comment deadline(s) for each request appear in section II.

II. Docketed Proceeding(s)

1. Docket No(s).: MC2024-557 and CP2024-565; Filing Title: USPS Request to Add Priority Mail Express, Priority Mail & USPS Ground Advantage Contract 252 to Competitive Product List and Notice of Filing Materials Under Seal; Filing Acceptance Date: August 27, 2024; Filing Authority: 39 U.S.C. 3642, 39 CFR 3040.130 through 3040.135, and 39 CFR 3035.105; Public Representative: Alain Brou; Comments Due: September 5, 2024.

2. Docket No(s).: MC2024-558 and CP2024-566; Filing Title: USPS Request to Add Priority Mail Express, Priority Mail & USPS Ground Advantage Contract 253 to Competitive Product List and Notice of Filing Materials Under Seal; Filing Acceptance Date: August 27, 2024; Filing Authority: 39 U.S.C. 3642, 39 CFR 3040.130 through 3040.135, and 39 CFR 3035.105; Public Representative: Alain Brou; Comments Due: September 5, 2024.

3. Docket No(s).: MC2024-559 and CP2024-567; Filing Title: USPS Request to Add Priority Mail & USPS Ground Advantage Contract 312 to Competitive Product List and Notice of Filing Materials Under Seal; Filing Acceptance Date: August 27, 2024; Filing Authority: 39 U.S.C. 3642, 39 CFR 3040.130 through 3040.135, and 39 CFR 3035.105; Public Representative: Jennaca D. Upperman; Comments Due: September 5, 2024.

4. Docket No(s).: MC2024-560 and CP2024-568; Filing Title: USPS Request to Add Priority Mail & USPS Ground Advantage Contract 317 to Competitive Product List and Notice of Filing Materials Under Seal; Filing Acceptance Date: August 27, 2024; Filing Authority: 39 U.S.C. 3642, 39 CFR 3040.130 through 3040.135, and 39 CFR 3035.105; Public Representative: Jennaca D. Upperman; Comments Due: September 5, 2024.

5. Docket No(s).: MC2024-567 and CP2024-575; Filing Title: USPS Request to Add Priority Mail Express, Priority Mail & USPS Ground Advantage Contract 260 to Competitive Product List and Notice of Filing Materials Under Seal; Filing Acceptance Date: August 27, 2024; Filing Authority: 39 U.S.C. 3642, 39 CFR 3040.130 through 3040.135, and 39 CFR 3035.105; Public Representative: Christopher C. Mohr; Comments Due: September 5, 2024.

6. Docket No(s).: MC2024-568 and CP2024-576; Filing Title: USPS Request to Add Priority Mail Express, Priority Mail & USPS Ground Advantage Contract 259 to Competitive Product List and Notice of Filing Materials Under Seal; Filing Acceptance Date: August 27, 2024; Filing Authority: 39 U.S.C. 3642, 39 CFR 3040.130 through 3040.135, and 39 CFR 3035.105; Public Representative: Christopher C. Mohr; Comments Due: September 5, 2024.

7. Docket No(s).: MC2024-569 and CP2024-577; Filing Title: USPS Request to Add Priority Mail Express, Priority Mail & USPS Ground Advantage Contract 261 to Competitive Product List and Notice of Filing Materials Under Seal; Filing Acceptance Date: August 27, 2024; Filing Authority: 39 U.S.C. 3642, 39 CFR 3040.130 through 3040.135, and 39 CFR 3035.105; Public Representative: Christopher C. Mohr; Comments Due: September 5, 2024.

8. Docket No(s).: MC2024-570 and CP2024-578; Filing Title: USPS Request to Add Priority Mail & USPS Ground Advantage Contract 319 to Competitive Product List and Notice of Filing Materials Under Seal; Filing Acceptance Date: August 27, 2024; Filing Authority: 39 U.S.C. 3642, 39 CFR 3040.130 through 3040.135, and 39 CFR 3035.105; Public Representative: Jennaca D. Upperman; Comments Due: September 5, 2024.

9. Docket No(s).: MC2024-571 and CP2024-579; Filing Title: USPS Request to Add Priority Mail Express, Priority Mail & USPS Ground Advantage Contract 262 to Competitive Product List and Notice of Filing Materials Under Seal; Filing Acceptance Date: August 27, 2024; Filing Authority: 39 U.S.C. 3642, 39 CFR 3040.130 through 3040.135, and 39 CFR 3035.105; Public Representative: Jennaca D. Upperman; Comments Due: September 5, 2024.

10. Docket No(s).: MC2024-572 and CP2024-580; Filing Title: USPS Request to Add Priority Mail Express, Priority Mail & USPS Ground Advantage Contract 263 to Competitive Product List and Notice of Filing Materials Under Seal; Filing Acceptance Date: August 27, 2024; Filing Authority: 39 U.S.C. 3642, 39 CFR 3040.130 through 3040.135, and 39 CFR 3035.105; Public Representative: Almaroof Agoro; Comments Due: September 5, 2024.

11. Docket No(s).: MC2024-573 and CP2024-581; Filing Title: USPS Request to Add Priority Mail Express, Priority Mail & USPS Ground Advantage Contract 264 to Competitive Product List and Notice of Filing Materials Under Seal; Filing Acceptance Date: August 27, 2024; Filing Authority: 39 U.S.C. 3642, 39 CFR 3040.130 through 3040.135, and 39 CFR 3035.105; Public Representative: Alain Brou; Comments Due: September 5, 2024.

This Notice will be published in the Federal Register.

Media Inquiries: Gail Adams, gail.adams@prc.gov.

Erica A. Barker,
Secretary.

[FR Doc. 2024-19739 Filed 9-3-24; 8:45 am]

BILLING CODE P